DEPARTMENT OF COMMERCE

National Oceanic and Atmospheric Administration

RIN 0648-XG961

Marine Mammals; File No. 22965

AGENCY: National Marine Fisheries Service (NMFS), National Oceanic and Atmospheric Administration (NOAA), Commerce.

ACTION: Notice; receipt of application.

SUMMARY: Notice is hereby given that Sea to Sea Productions Ltd., 477 Island View Drive, Boutiliers Point, Nova Scotia, Canada B3Z1R3 (Responsible Party: David Kent Nason), has applied in due form for a permit to conduct commercial or educational photography on gray seals (Halichoerus grypus).

DATES: Written, telefaxed, or email comments must be received on or before May 16, 2019.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Sara Young, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film up to 100 gray seals (Halichoerus grypus) near the Isles of Shoals, located offshore from Maine and New Hampshire. Underwater video would be taken for a television documentary on gray seals that will air in an episode of The Nature of Things on the Canadian Broadcasting Corporation. Up to 50 harbor seals (Phoca vitulina) may also be incidentally filmed. The permit would expire on August 31, 2019.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 10, 2019.
Amy Sloan,
Acting Chief, Permits and Conservation Division, Office of Protected Resources, National Marine Fisheries Service.

[FR Doc. 2019-07515 Filed 4-15-19; 8:45 am]

BILLING CODE 3510-22-P